DEPARTMENT OF COMMERCE

Foreign-Trade Zones Board

[S-125-2015]

Approval of Expansion of Subzone 77E; Cummins, Inc.; Memphis, Tennessee

On August 28, 2015, the Executive Secretary of the Foreign-Trade Zones (FTZ) Board docketed an application submitted by the City of Memphis, grantee of FTZ 77, requesting to expand Subzone 77E subject to the existing activation limit of FTZ 77, on behalf of Cummins, Inc. in Memphis, Tennessee.

The application was processed in accordance with the FTZ Act and Regulations, including notice in the Federal Register inviting public comment (80 FR 54520-54521, September 10, 2015). The FTZ staff examiner reviewed the application and determined that it meets the criteria for approval. Pursuant to the authority delegated to the FTZ Board's Executive Secretary (15 CFR Sec. 400.36(f)), the application to expand Subzone 77E is approved, subject to the FTZ Act and the Board's regulations, including Section 400.13, and further subject to FTZ 77's 2,000-acre activation limit.

Dated: November 13, 2015.
Elizabeth Whiteman,
Acting Executive Secretary.

[FR Doc. 2015-29581 Filed 11-18-15; 8:45 am]

BILLING CODE 3510-DS-P